DEPARTMENT OF COMMERCE

Foreign-Trade Zones Board

[B-36-2015]

Foreign-Trade Zone (FTZ) 122—Corpus Christi, Texas, Notification of Proposed Production Activity, Voestalpine Texas, LLC, (Hot Briquetted Iron), Portland, Texas

The Port of Corpus Christi Authority, grantee of FTZ 122, submitted a notification of proposed production activity to the FTZ Board on behalf of voestalpine Texas, LLC (voestalpine), located in Portland, Texas. The notification conforming to the requirements of the regulations of the FTZ Board (15 CFR 400.22) was received on May 22, 2015.

The voestalpine facility is located within Subzone 122T in Portland, Texas. The facility is currently under construction and will be used for the production of hot briquetted iron using foreign-sourced iron ore pellets. Pursuant to 15 CFR 400.14(b), FTZ activity would be limited to the specific foreign-status materials and specific finished product described in the submitted notification (as described below) and subsequently authorized by the FTZ Board.

Production under FTZ procedures could exempt voestalpine from customs duty payments on the foreign-status iron ore pellets (duty free) used in export production. On its domestic sales, voestalpine would be able to choose the duty rate during customs entry procedures that applies to the hot briquetted iron (duty free) for the foreign-status iron ore pellets. The submission indicates that most of the plant's output will be exported. Customs duties also could possibly be deferred or reduced on foreign-status production equipment.

Public comment is invited from interested parties. Submissions shall be addressed to the FTZ Board's Executive Secretary at the address below. The closing period for their receipt is July 15, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Diane Finver at Diane.Finver@trade.gov or (202) 482-1367.

Dated: May 29, 2015.
Andrew McGilvray,
Executive Secretary.

[FR Doc. 2015-13812 Filed 6-4-15; 8:45 am]

BILLING CODE 3510-DS-P